DEPARTMENT OF COMMERCE

Patent and Trademark Office

Public Key Infrastructure (PKI) Certificate Action Form

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before December 22, 2008.

ADDRESSES: You may submit comments by any of the following methods:

• E-mail: Susan.Fawcett@uspto.gov. Include “0651-0045 comment” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

• Federal Rulemaking Portal: http://www.regulations.gov.

FOR FURTHER INFORMATION CONTACT: Requests for additional information should be directed to Katherine Queen, Information Technology Security Program Office, United States Patent and Trademark Office, P.O. Box 1450, Alexandria, VA 22313-1450; by telephone at 571-272-8993; or by e-mail at Katherine.Queen@uspto.gov.

SUPPLEMENTARY INFORMATION:

I. Abstract

The United States Patent and Trademark Office (USPTO) uses Public Key Infrastructure (PKI) technology to support electronic commerce between the USPTO and its customers. PKI is a set of hardware, software, policies, and procedures that provide important security services for the electronic business activities of the USPTO, including protecting the confidentiality of unpublished patent applications in accordance with 35 U.S.C. 122 and 37 CFR 1.14, as well as protecting international patent applications in accordance with Article 30 of the Patent Cooperation Treaty.

In order to provide the necessary security for its electronic commerce systems, the USPTO uses PKI technology to protect the integrity and confidentiality of information submitted to the USPTO. PKI employs public and private encryption keys to authenticate the customer's identity and support secure electronic communication between the customer and the USPTO. Customers may submit a request to the USPTO for a digital certificate, which enables the customer to create the encryption keys necessary for electronic identity verification and secure transactions with the USPTO. This digital certificate is required in order to access secure online systems that are provided by the USPTO for transactions such as electronic filing of patent applications and viewing confidential information about unpublished patent applications.

This information collection includes the Certificate Action Form (PTO-2042), which is used by the public to request a new digital certificate, the revocation of a current certificate, or the recovery of a lost or corrupted certificate. Customers may also change the name listed on the certificate or associate the certificate with one or more previously assigned Customer Numbers. A certificate request must include a notarized signature in order to verify the identity of the applicant. The Certificate Action Form also has an accompanying subscriber agreement to ensure that customers understand their obligations regarding the use of the digital certificates and cryptographic software. When generating a new certificate, customers may provide additional information for a set of security questions and answers that will enable customers to recover a lost certificate online without having to contact USPTO support staff.

II. Method of Collection

The Certificate Action Form must be notarized and may be mailed or hand delivered to the USPTO. The Certificate Self-Recovery Form is submitted online through the USPTO Web site.

III. Data

OMB Number: 0651-0045.

Form Number(s): PTO-2042.

Type of Review: Extension of a currently approved collection.

Affected Public: Individuals or households; businesses or other for-profits; and not-for-profit institutions.

Estimated Number of Respondents: 4,126 responses per year.

Estimated Time per Response: The USPTO estimates that it will take the public approximately 30 minutes (0.5 hours) to read the instructions and subscriber agreement, gather the necessary information, prepare the Certificate Action Form, and submit the completed request. The USPTO estimates that it will take the public approximately 10 minutes (0.17 hours) to complete and electronically submit the information required for Certificate Self-Recovery.

Estimated Total Annual Respondent Burden Hours: 1,383 hours per year.

Estimated Total Annual Respondent Cost Burden: $167,343 per year. The USPTO expects that 70% of the submissions for this collection will be prepared by paraprofessionals, 15% by attorneys, and 15% by independent inventors. Using those proportions and the estimated rates of $100 per hour for paraprofessionals, $310 per hour for associate attorneys in private firms, and $30 per hour for independent inventors, the USPTO estimates that the average rate for those respondents will be approximately $121 per hour. Therefore, the estimated total respondent cost burden for this collection will be $167,343 per year.

Item | Estimated time for response (minutes) | Estimated annual responses | Estimated annual burden hours
Certificate Action Form (including Subscriber Agreement) (PTO-2042) | 30 | 2,063 | 1,032
Certificate Self-Recovery Form | 10 | 2,063 | 351
Totals |  | 4,126 | 1,383

Estimated Total Annual (Non-hour) Respondent Cost Burden: $4,992. There are no capital start-up costs, maintenance costs, or filing fees associated with this information collection. However, this collection does have annual (non-hour) cost burden in the form of recordkeeping costs and postage costs associated with the Certificate Action Form.

This collection has recordkeeping costs due to the notarization requirement for authenticating the signatures on the Certificate Action Form. The USPTO estimates that the average fee for having a signature notarized is $2 and that 2,063 responses for these forms will be submitted annually, for a total recordkeeping cost of $4,126 per year.

This collection also has postage costs for submitting the Certificate Action Form to the USPTO by mail. The form cannot be faxed or submitted electronically because it requires an original notarized signature for identity verification. The USPTO estimates that the first-class postage cost for these forms will be 42 cents and that it will receive 2,063 mailed responses annually, for a total postage cost of approximately $866 per year.

The total (non-hour) respondent cost burden for this collection in the form of recordkeeping costs and postage costs is estimated to be $4,992 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: October 16, 2008.
Susan K. Fawcett,
Records Officer, USPTO, Office of the Chief Information Officer, Customer Information Services Group, Public Information Services Division.

[FR Doc. E8-25280 Filed 10-22-08; 8:45 am]

BILLING CODE 3510-16-P